DEPARTMENT OF COMMERCE

Census Bureau

Agency Information Collection Activities; Submission to the Office of Management and Budget (OMB) for Review and Approval; Comment Request; State and Local Government Finance Collections, and Public Employment and Payroll Collections

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the State and Local Government Finance Collections, and Public Employment and Payroll Collections prior to the submission of the information collection request (ICR) to OMB for approval.

DATES: To ensure consideration, comments regarding this proposed information collection must be received on or before January 22, 2024.

ADDRESSES: Interested persons are invited to submit written comments by email to Thomas.J.Smith@census.gov. Please reference State and Local Government Finance Collections, and Public Employment and Payroll Collections in the subject line of your comments. You may also submit comments, identified by Docket Number USBC-2023-0014, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael Reich, Assistant Division Chief, Public Sector, Economy-Wide Statistics Division, 301-763-5163; or by email michael.r.reich@census.gov.

SUPPLEMENTARY INFORMATION:

I. Abstract

The Census Bureau plans to request an extension of the clearance for the Annual Survey of Public Employment & Payroll and the Annual Survey of State and Local Government Finances. There are no proposed changes since the last approved clearance. The Annual Survey of Public Employment & Payroll collects state and local government data by function for full-time and part-time employees and payroll. The Annual Survey of State and Local Government Finances collect state and local government finance data including government revenue, expenditure, debt, assets, and pension systems. Data are collected for all agencies, departments, and institutions of the fifty state governments and for a sample of all local governments (counties, municipalities, townships, and special districts). Data for school districts are collected under a separate survey and are not included here.

In years ending with 2 and 7 this collection is conducted as a part of the Census of Governments. There is no difference in content collected between a Census of Governments year and non-Census year. The only difference is that in non-Census years, we only collect from a sample of the universe of state and local governments, whereas during a Census of Governments year the entire universe is collected. The upcoming three years of this clearance extension will cover the collections for fiscal years of 2023, 2024, and 2025, all of which are non-Census years.

The data are released as part of the State and Local Government Finance and Public Employment & Payroll statistical series. The collections also produce individual data products that focus on state governments, local governments, and public pensions in greater detail than the combined financial and employment series as a by-product of their collections for the combined data series. The Census Bureau provides these data to the Bureau of Economic Analysis to develop the public sector components of the National Income and Product Accounts and for constructing the functional payrolls in the public sector of the Gross Domestic Product, payroll being the single largest component of current operations. The Census Bureau also provides these data to the Federal Reserve Board for use in the Flow of Funds Accounts. Other Federal agencies that make use of the data include the Council of Economic Advisers, the Agency for Healthcare Research and Quality, the Government Accountability Office, and the Department of Justice. State and local governments and related organizations, public policy groups, public interest groups, private research organizations, and private sector businesses also use these data.

Statistics are produced as data files in electronic formats published to the Census website.

II. Method of Collection

These surveys use multiple modes for data collection with the main collection method being internet data collection with a mailed invitation, followed by email, mail, and telephone follow-ups. Other methods used to collect data and maximize response include collecting state and local government data through administrative records such as submitted financial audits, state financial reports, and annual comprehensive financial reports via electronic or mailed files and/or records.

The Census Bureau developed central collection agreements with state and large local government officials to collect the data from their dependent agencies and report to the Census Bureau as a central respondent. These arrangements eliminate the need for a mail invitation for approximately 5,900 governmental units in a sample year and 32,000 during the year of the Census of Governments. The arrangements reduce burden by greatly decreasing the number of respondents who must complete an on-line response as the data are acquired from a centralized source instead of multiple sources.

III. Data

OMB Control Number: 0607-0585.

Form Number(s): F-5, F-11, F-12, F-13, F-28, F-29, F-32, E-1, E-2, E-3, E-4, E-5, E-6, E-7, E-8, E-9, E-10.

Type of Review: Regular submission, Request for an Extension, without Change, of a Currently Approved Collection.

Affected Public: State and Local governments.

Estimated Number of Respondents: For F-forms: 13,683, For E-forms: 15,926/sample year.

Estimated Time per Response: For F-forms: 2.97, For E-forms: .86 hours/sample year.

Estimated Total Annual Burden Hours: For F-forms: 40,613, For E-forms: 13,693 hours/sample year.

Estimated Total Annual Cost to Public: 0. (This is not the cost of respondents' time, but the indirect costs respondents may incur for such things as purchases of specialized software or hardware needed to report, or expenditures for accounting or records maintenance services required specifically by the collection.)

Respondent's Obligation: Voluntary.

Legal Authority: Title 13 U.S.C. 161 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-25733 Filed 11-20-23; 8:45 am]

BILLING CODE 3510-07-P